DEPARTMENT OF COMMERCE

International Trade Administration

[A-580-854]

Notice of Amended Preliminary Determination of Sales At Not Less Than Fair Value: Certain Circular Welded Carbon Quality Line Pipe from the Republic of Korea

AGENCY: Import Administration, International Trade Administration, Department of Commerce.

ACTION: Notice of Amended Preliminary Determination of Sales at Not Less Than Fair Value.

EFFECTIVE DATE: November 3, 2004.

FOR FURTHER INFORMATION CONTACT: Brandon Farlander or Patrick Edwards at (202) 482-0182 and (202) 482-8029, respectively; AD/CVD Operations, Office 7, Import Administration, International Trade Administration, U.S. Department of Commerce, 14th Street and Constitution Avenue, N.W., Washington, D.C. 20230.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce (Department) regulations are to 19 CFR part 351 (April 2001).

Amendment of Preliminary Determination

The Department is amending the preliminary determination in the antidumping investigation of certain circular welded carbon quality line pipe from the Republic of Korea. This amended preliminary determination results in a revised antidumping rate for respondent Hyundai HYSCO and the all others rate in this case.

Scope of Investigation

The scope of this investigation includes certain circular welded carbon quality steel line pipe of a kind used in oil and gas pipelines, over 32 mm (1 inches) in nominal diameter (1.660 inch actual outside diameter) and not more than 406.4 mm (16 inches) in outside diameter, regardless of wall thickness, surface finish (black, or coated with any coatings compatible with line pipe), and regardless of end finish (plain end, beveled ends for welding, threaded ends or threaded and coupled, as well as any other special end finishes), and regardless of stenciling. The merchandise subject to this investigation may be classified in the Harmonized Tariff Schedule of the United States (“HTSUS”) at heading 7306 and subheadings 7306.10.10.10, 730610.10.50, 7306.10.50.10, and 7306.10.50.50. The tariff classifications are provided for convenience and customs purposes; however, the written description of the scope of the investigation is dispositive.

Background

On September 29, 2004, the Department issued its affirmative preliminary determination in this proceeding. See Notice of Affirmative Preliminary Determination of Sales at Less Than Fair Value and Postponement of Final Determination: Certain Circular Welded Carbon Quality Line Pipe from Korea, 69 FR 59885 (October 6, 2004) (“Preliminary Determination”). The Department's Preliminary Determination covered manufacturers/exporters, Hyundai HYSCO (“HYSCO”) and SeAH Steel Corporation Ltd. (“SeAH”).

On October 4, 2004, the Department received from HYSCO a timely allegation of ministerial errors in the preliminary determination. HYSCO alleged that the Department made a significant ministerial error. The alleged ministerial error was in the Department's recalculation of HYSCO's financial expense ratio. Specifically, HYSCO claims that the Department used the wrong currency denomination (single won instead of 1,000 won) in the gains and losses on currency forward transactions figures.

Significant Ministerial Error

A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g).

In this instance, the original preliminary determination resulted in a weighted-average margin of 6.49 percent for HYSCO and for the “All Others” rate. Recalculation of the financial expense ratio using the correct denomination in the gains and losses on currency forward transactions results in a de minimis weighted-average dumping margin, thus meeting the requirements under 19 CFR 351.224(g)(2).

Amended Determination

The Department has reviewed its preliminary calculations and agrees that the Department made a ministerial error within the meaning of 19 CFR 351.224(f) in its recalculation of HYSCO's financial expense with regard to the calculation of the gains and losses on currency forward transactions using the wrong currency denomination. For a detailed analysis, see the November 1, 2004, Memorandum to Richard O. Weible from Margaret Pusey and Brandon Farlander regarding the Analysis of Allegation of Ministerial Error for Hyundai HYSCO Co., Ltd. on file in the Department's Central Records Unit, Room B-099 of the Herbert H. Hoover Building, 1401 Constitution Avenue, N.W., Washington, D.C. As a result of our analysis of HYSCO's allegation, we are amending our preliminary determination to revise the antidumping rates in accordance with 19 CFR 351.224(e).

We will revise our suspension of liquidation instructions to U.S. Customs and Border Protection (CBP), instructing CBP that no suspension of liquidation is required at this time, since both respondents in this proceeding now have de minimis rates. Parties will be notified of this amended determination, in accordance with section 733(d) and (f) of the Act.

The following weighted-average dumping margins apply:

Exporter/manufacturer | Weighted-average margin (percentage)
Hyundai HYSCO | 1.31¹
SeAH Steel Corporation Ltd. | 1.19
All Others Rate | 0.0
De minimis

The All Others rate is derived exclusive of all zero and de minimis margins and margins based entirely on adverse facts available. The All Others rate has been amended, and applies to all entries of the subject merchandise except for entries from exporters/producers that are identified individually above.

Suspension of Liquidation

In accordance with section 733(d)(2) of the Act, we are directing CBP not to suspend liquidation of all imports of certain circular welded carbon quality line pipe from the Republic of Korea entered, or withdrawn from warehouse, for consumption on or after the date of publication of this amended preliminary determination in the Federal Register. CBP shall not require a cash deposit or the posting of a bond equal to the weighted-average amount by which the normal value exceeds the export price, as indicated above, because we have calculated de minimis margins. These instructions not to suspend liquidation will remain in effect until further notice.

International Trade Commission (ITC) Notification

In accordance with section 733(f) of the Act, we have notified the ITC of our determination of sales at not less than fair value.

This determination is issued and published pursuant to sections 733(f) and 777(i)(1) of the Tariff Act.

Dated: October 27, 2004.
James J. Jochum,
Assistant Secretary for Import Administration.

[FR Doc. E4-3000 Filed 11-2-04; 8:45 am]

BILLING CODE 3510-DS-S